ENVIRONMENTAL PROTECTION AGENCY

[EPA-HQ-OPP-2017-0008; FRL-9965-38]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before October 16, 2017.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090; email address: BPPDFRNotices@epa.gov, Michael Goodis, Registration Division (7505P), main telephone number: (703) 305-7090; email address: RDFRNotices@epa.gov, Steve Knizner, Antimicrobials Division (7510P), main telephone number: (703) 305-7090; email address: ADFRNotices@epa.gov. The mailing address for each contact person is: Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications:

1. EPA Registration Numbers: 100-815, 100-1406, 100-1407, and 100-1442. Docket ID number: EPA-HQ-OPP-2017-0211. Applicant: Syngenta Crop Protection, LLC, P.O. Box 18300, Greensboro, NC 27419. Active ingredient: S-metolachlor. Product type: Herbicide. Proposed use: Sugarcane. Contact: RD.

2. EPA Registration Numbers: 264-1137 and 264-1169. Docket ID number: EPA-HQ-OPP-2016-0508. Applicant: Bayer CropScience, 2 T.W. Alexander Drive, Research Triangle Park, NC 27709. Active ingredient: Fluoxastrobin. Product type: Fungicide. Proposed uses: Sorghum (seed treatment) and Wheat (seed treatment). Contact: RD.

3. EPA Registration Numbers: 279-3460, 279-3052, and 279-3158. Docket ID Number: EPA-HQ-OPP-2017-0372. Applicant: FMC Corporation, 2929 Walnut Street, Philadelphia, PA 19104. Active ingredient: Clomazone. Product type: Herbicide. Proposed uses: Cilantro; dill; vegetable, cucurbit, group 9; rapeseed subgroup 20A; vegetable, brassica, head and stem, group 5-16; cottonseed subgroup 20C; Chinese broccoli; kohlrabi; bean, dry; bean, succulent; and the stalk and stem vegetable subgroup 22A, except kohlrabi. Contact: RD.

4. EPA Registration Number: 6836-378. Docket ID number: EPA-HQ-OPP 2017-0348. Applicant: Lonza Inc., 90 Boroline Road, Allendale, NJ 07401. Active ingredient: Sodium Pyrithione. Product type: Materials Preservative. Proposed use: Dishwasher rinse aid. Contact: AD.

5. EPA File Symbol: 46197-E. Docket ID number: EPA-HQ-OPP-2017-0232. Applicant: Technology Sciences Group, Inc. on behalf of Kansai Paint Co., Ltd., 1150 18th St. NW., Suite 1000, Washington, DC 20036. Active ingredient: Permethrin. Product type: Insecticide. Proposed use: Permethrin-treated paint to be applied to walls as a means to kill mosquitoes. Contact: RD.

6. EPA Registration Numbers: 62719-144 and 62719-659. Docket ID number: EPA-HQ-OPP-2016-0650. Applicant: Interregional Research Project No. 4 (IR-4) Project Headquarters, Rutgers, The State University of NJ, 500 College Road East, Suite 201, W. Princeton, NJ 08540. Active ingredient: Isoxaben: N-[3-(1-ethyl-1-methylpropyl)-5-isoxazolyl]-2, 6-dimethoxybenzamide and isomers. Product type: Herbicide. Proposed use: Apples, bushberry subgroup 13-07B, the fruit, small, vine climbing, except fuzzy kiwi fruit, subgroup 13-07F; the nut, tree, group 14-12. Contact: RD.

7. EPA Registration Number: 73049-407. Docket ID number: EPA-HQ-OPP-2017-0289. Applicant: Valent BioSciences, LLC, 870 Technology Way, Libertyville, IL 60048. Active ingredient: 6-benzyladenine. Product type: Plant regulator. Proposed use: End-use product plant regulator for use on avocados to increase fruit size and yield and to reduce alternate bearing.Contact: BPPD.

8. EPA Registration Number: 73049-407. Docket ID number: EPA-HQ-OPP-2017-0287. Applicant: Valent BioSciences, LLC, 870 Technology Way, Libertyville, IL 60048. Active ingredient: 6-benzyladenine. Product type: Plant regulator. Proposed use: End-use product plant regulator for use on fruiting vegetables (peppers and tomatoes) and cucurbits (cucumbers, melons, and squash) for enhancement of fruit size. Contact: BPPD.

9. EPA Registration Number: 11678-73 and 66222-243. Docket ID number: EPA-HQ-OPP-2017-0169. Applicant: Makhteshim Agan of North America d/b/a ADAMA, 3120 Highlands Blvd., Suite 100, Raleigh, NC 27604. Active ingredient: Fluensulfone. Product type: Nematicide. Proposed use: Pome Fruit Group 11-10, Stone Fruit Group 12-12, Small Fruit Vine Climbing Subgroup 13-07D, Tree Nuts Group 14-12, Sugarcane, and inadvertent tolerances for Cereal Grain, Group 15; Forage, Fodder and Straw of Cereal Grains Group 16. Contact: RD

Authority: 7 U.S.C. 136 et seq.

Dated: July 26, 2017.
Delores Barber,
Director, Information Technology and Resources Management Division, Office of Pesticide Programs.

[FR Doc. 2017-19691 Filed 9-14-17; 8:45 am]

BILLING CODE 6560-50-P